DEPARTMENT OF COMMERCE

National Oceanic and Atmospheric Administration

[I.D. 101300A]

Marine Mammals; File No. 984-1587-00

AGENCY: National Marine Fisheries Service (NMFS), National Oceanic and Atmospheric Administration (NOAA), Commerce.

ACTION: Issuance of permit.

SUMMARY: Notice is hereby given that Dr. Terrie Williams, Department of Biology, EMS-A316, University of California at Santa Cruz, Santa Cruz, California 95064, has been issued a permit to maintain Atlantic bottlenose dolphins (Tursiops truncatus) and California sea lions (Zalophus californianus) for purposes of scientific research.

ADDRESSES: The permit and related documents are available for review upon written request or by appointment in the following office(s):

Permits and Documentation Division, Office of Protected Resources, NMFS, 1315 East-West Highway, Room 13705, Silver Spring, MD 20910 (301/713-2289); and

Regional Administrator, Southwest Region, NMFS, 501 West Ocean Blvd., Suite 4200, Long Beach, CA 90802-4213 (562/980-4001).

FOR FURTHER INFORMATION CONTACT: Ruth Johnson or Simona Roberts, 301/713-2289.

SUPPLEMENTARY INFORMATION: On September 6, 2000, notice was published in the Federal Register (65 FR 53988) that a request for a scientific research permit had been submitted by the above-named individual. The requested permit has been issued under the authority of the Marine Mammal Protection Act of 1972, as amended (16 U.S.C. 1361 et seq.) and the Regulations Governing the Taking and Importing of Marine Mammals (50 CFR part 216).

Dated: November 1, 2000.
Ann D. Terbush,
Chief, Permits and Documentation Division, Office of Protected Resources, National Marine Fisheries Service.

[FR Doc. 00-28576 Filed 11-6-00; 8:45 am]

BILLING CODE 3510-22-S